COMMITTEE FOR PURCHASE FROM PEOPLE WHO ARE BLIND OR SEVERELY DISABLED

Procurement List; Additions and Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date added to and deleted from the Procurement List: April 02, 2023.

ADDRESSES: Committee for Purchase from People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Deletions

On 12/9/2022 and 12/16/2023, the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7520-01-457-0719—File, Horizontal Desk, 12″ × 8½″ × 15″, 6 Shelf, Black

7520-01-457-0721—File, Horizontal Desk, 12″ × 8½″ × 10″, 4 Shelf, Black

7520-01-457-0723—File, Horizontal Desk, 12″ × 8½″ × 12½″, 5 Shelf, Black

7520-01-457-0724—File, Horizontal Desk, 12″ × 8½″ × 7⅛″, 3 Shelf, Black

7520-01-457-0725—File, Horizontal Desk, 12″ × 8½″ × 17⅛″, 7 Shelf, Black

7520-01-457-0726—File, Horizontal Desk, 12″ × 8½″ × 19⅝″, 8 Shelf, Black

Contracting Activity: GSA/FAS ADMIN SVCS ACQUISITION BR (2, NEW YORK, NY

NSN(s)—Product Name(s):

7510-01-590-1503—Laser Toner Cartridge, 12X

Mandatory Source of Supply: TRI Industries NFP, Vernon Hills, IL

Contracting Activity: GSA/FAS ADMIN SVCS ACQUISITION BR (2, NEW YORK, NY

Service(s)

Service Type: Switchboard Operation

Service Type: Mailroom Operation & Administrative Supp

Mandatory for: Veterans Affairs Medical Center: 718 Smyth Road, Manchester, NH

Mandatory Source of Supply: Northern New England Employment Services, Portland, ME

Contracting Activity: VETERANS AFFAIRS, DEPARTMENT OF, 608-MANCHESTER

Service Type: Custodial Services

Mandatory for: USDA, APHIS, PPQ, 843 13th Court, Unit 7, Riviera Beach, FL

Mandatory Source of Supply: Gulfstream Goodwill Industries, Inc., West Palm Beach, FL

Contracting Activity: ANIMAL AND PLANT HEALTH INSPECTION SERVICE, USDA APHIS MRPBS

Michael R. Jurkowski,
Acting Director, Business Operations.

[FR Doc. 2023-04404 Filed 3-2-23; 8:45 am]

BILLING CODE 6353-01-P